DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 4, 2003.

Interested persons are invited to submit written comments regarding the subject matter of the investigations to the Director, Division of Trade Adjustment Assistance, at the address shown below, no later than December 4, 2003.

The petitions filed in this case are available for inspection at the Office of the Director, Division of Trade Adjustment Assistance, Employment and Training Administration, U.S. Department of Labor, Room C-5311, 200 Constitution Avenue, NW., Washington, DC 20210.

Dated: Signed at Washington, DC., this 31st day of October, 2003.
Timothy Sullivan,
Director, Division of Trade Adjustment Assistance.

Appendix
[Petition's instituted between 10/20/2003 and 10/24/2003]
TA-W | Subject firm (petitioners) | Location | Date of institution | Date of petition
53,284 | Jolly Tundra (MN) | Winthrop, MN | 10/20/2003 | 10/20/2003
53,285 | Mastercraft Fabrics (Wkrs) | Spindale, NC | 10/20/2003 | 9/20/2003
53,286 | Elox Corp (Comp) | Davidson, NC | 10/20/2003 | 10/17/2003
53,287 | Filtertek (PR) | Patillas, PR | 10/20/2003 | 10/10/2003
53,288 | Biddeford Blankets, LLC (Comp) | Biddeford, ME | 10/20/2003 | 10/17/2003
53,289 | L and I Atlantic, Inc. (ME) | Bangor, ME | 10/20/2003 | 10/14/2003
53,290 | Finisar Corporation (Wkrs) | Sunnyvale, CA | 10/20/2003 | 10/04/2003
53,291 | Cone Mills Corp. (Comp) | Cliffside, NC | 10/20/2003 | 10/14/2003
53,292 | Salmon Falls Precision Fabricators, Inc. | Rochester, NH | 10/20/2003 | 10/16/2003
53,293 | Harriet and Henderson Yarns, Inc. (Comp) | Clarkton, NC | 10/20/2003 | 10/17/2003
53,294 | Newell Porcelain (Wkrs) | Newell, WV | 10/20/2003 | 10/14/2003
53,295 | Stimson Lumber (Comp) | Coeur d'Alene, ID | 10/20/2003 | 10/15/2003
53,296 | Solectron Technology, Inc. (NC) | Charlotte, NC | 10/20/2003 | 10/17/2003
53,297 | DSM Pharma Chemicals (Comp) | Greenville, NC | 10/20/2003 | 10/17/2003
53,298 | Fisher Controls (Wkrs) | McKinney, TX | 10/21/2003 | 10/21/2003
53,299 | Cannon ITT Industries (Comp) | Santa Ana, CA | 10/21/2003 | 10/08/2003
53,300 | Kraft Foods (NJ) | Fairlawn, NJ | 10/21/2003 | 10/02/2003
53,301 | Celanese Acetate (UNITE) | Rock Hill, SC | 10/21/2003 | 10/11/2003
53,302 | Kiker Hosiery, Inc. (Comp) | Locust, NC | 10/21/2003 | 10/15/2003
53,303 | Champagne Dye Works, Inc. (Comp) | Asheboro, NC | 10/21/2003 | 10/20/2003
53,304 | Quality Scientific Plastics, Inc. (Comp) | Petaluma, CA | 10/21/2003 | 09/24/2003
53,305 | Dillon Floral Corp. (Wkrs) | Bloomsburg, PA | 10/21/2003 | 10/01/2003
53,306 | Springs Window Fashions (Comp) | Wausau, WI | 10/21/2003 | 10/20/2003
53,307 | Manpower (Wkrs) | Miami, FL | 10/21/2003 | 10/06/2003
53,308 | Burger Iron Management Corp. (USWA) | Akron, OH | 10/21/2003 | 10/03/2003
53,309 | Candle Corporation (Wkrs) | El Segundo, CA | 10/21/2003 | 10/09/2003
53,310 | Endeavor Mold and Design, Inc. (Comp) | Erie, PA | 10/21/2003 | 10/02/2003
53,311 | Honeywell (Wkrs) | Freeport, IL | 10/22/2003 | 10/17/2003
53,312 | Ethan Allen Furniture (Wkrs) | Dublin, VA | 10/22/2003 | 10/16/2003
53,313 | Classic Hosiery, Inc. (Comp) | Burlington, NC | 10/22/2003 | 10/17/2003
53,314 | Acrotech Midwest Inc. (MN) | Crosby, MN | 10/22/2003 | 10/21/2003
53,315 | OBG Manufacturing Co. (Comp) | Liberty, KY | 10/22/2003 | 10/22/2003
53,316 | Robert Bosch Tool Corp. (Comp) | Elizabethtown, KY | 10/22/2003 | 10/21/2003
53,317 | Sofanou, Inc. of Kentucky (Wkrs) | Morgantown, KY | 10/23/2003 | 10/21/2003
53,318 | Moll Industries (Comp) | Austin, TX | 10/23/2003 | 10/21/2003
53,319 | Meadwestvaco (PA) | Pittsfield, MA | 10/23/2003 | 10/15/2003
53,320 | Standard Motor Products (Wkrs) | Argos, IN | 10/23/2003 | 10/16/2003
53,321 | Charter Fabrics, Inc. (Comp) | New York, NY | 10/23/2003 | 09/29/2003
53,322 | John Crane, Inc. (Comp) | Vandalia, IL | 10/23/2003 | 10/22/2003
53,323 | Franklin Electric (Wkrs) | Jonesboro, IN | 10/23/2003 | 10/16/2003
53,324 | New River Industries, Inc. (Comp) | Radford, VA | 10/23/2003 | 10/15/2003
53,325 | Security DBS (Comp) | Dallas, TX | 10/23/2003 | 10/21/2003
53,326 | Weyerhaeuser (AR) | W. Memphis, AR | 10/23/2003 | 10/21/2003
53,327 | Portland Pattern, Inc. (Comp) | Portland, OR | 10/23/2003 | 10/22/2003
53,328 | International Paper (Wkrs) | Kaukauna, WI | 10/23/2003 | 10/20/2003
53,329 | Advanced Forming Technology (CO) | Longmont, CO | 10/23/2003 | 10/14/2003
53,330 | Air Products and Chemical, Inc. (Wkrs) | Allentown, PA | 10/23/2003 | 10/23/2003
53,331 | Budd Group (The) (Comp) | Grover, NC | 10/23/2003 | 10/23/2003
53,332 | NXL Investments, Inc. (Comp) | Euclid, OH | 10/23/2003 | 10/23/2003
53,333 | Fishing Vessel (F/V) WW Northland (Comp) | Haines, AK | 10/24/2003 | 10/12/2003
53,334 | Eugene Aluminum and Brass Foundry, Inc. (Comp) | Eugene, OR | 10/24/2003 | 10/17/2003
53,335 | Fairchild Semiconductor (Comp) | Mountaintop, PA | 10/24/2003 | 10/20/2003
53,336 | Henredon Furniture Ind. (Comp) | Spruce Pine, NC | 10/24/2003 | 10/23/2003
53,337 | De Machine Shop (Comp) | Berthoud, CO | 10/24/2003 | 10/23/2003
53,338 | Diversified Tool Corp. (Wkrs) | Cambridge Springs, PA | 10/24/2003 | 10/17/2003
53,339 | National Manufacturing Co. (Comp) | Sterling IL | 10/24/2003 | 10/15/2003
53,340 | Star Machine Shop (Wkrs) | Galax, VA | 10/24/2003 | 10/17/2003
53,341 | Underwood Industries of NY (Comp) | Waverly, NY | 10/24/2003 | 10/15/2003
53,342 | Halmode Apparel, Inc. (Wkrs) | Roanoke, VA | 10/24/2003 | 09/30/2003
53,343 | Arteva Specialities S.a.r.l. (Comp) | Shelby, NC | 10/24/2003 | 10/23/2003
53,344 | Royal Appliance Mfg., Co. (Comp) | Glenwillow, OH | 10/24/2003 | 10/16/2003
53,345 | Parkdale American, LLC (Comp) | Landis, NC | 10/24/2003 | 10/09/2003
53,346 | Parkdale Mills, Inc. (Comp) | Belmont, NC | 10/24/2003 | 10/09/2003
53,347 | Thomas Apparel Company (Wkrs) | Hartville, MO | 10/24/2003 | 10/31/2003
53,348 | Sampo Corporation of America (Wkrs) | Fremont, CA | 10/24/2003 | 10/07/2003
53,349 | Ethan Allen Mfg., Co. (Wkrs) | Beecher Falls, VT | 10/24/2003 | 10/20/2003
53,350 | Zytec America, Inc. (Comp) | Greensboro, NC | 10/24/2003 | 10/15/2003

[FR Doc. 03-29254 Filed 11-21-03; 8:45 am]

BILLING CODE 4510-30-M